COMMISSION ON CIVIL RIGHTS

Agenda and Notice of Public Meeting of the West Virginia Advisory Committee

AGENCY: Commission on Civil Rights.

ACTION: Announcement of monthly planning meetings.

SUMMARY: Notice is hereby given, pursuant to the provisions of the rules and regulations of the U.S. Commission on Civil Rights (Commission), and the Federal Advisory Committee Act (FACA), that meetings of the West Virginia Advisory Committee to the Commission (WV Advisory Committee) will convene by conference call at 12:00 p.m. (EDT) on each of the following Tuesdays: June 28, July 26, and August 23, 2016. The purpose of each meeting is to discuss project planning of the Mental Health Project and topics for the Committee's future civil rights review. Members will also nominate and select additional Committee officers at one of the meetings.

Interested members of the public may listen to the discussion by calling the following toll-free conference call-in number: 1-888-481-2844 and conference call ID: 6047709. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1- 800-977-8339 and providing the operator with the toll-free conference call-in number: 1-888-481-2844 and conference call ID: 6047709.

Members of the public are invited to make statements to the WV Advisory Committee during the scheduled open comment period. In addition, members of the public are invited to submit written comments; the comments must be received in the regional office approximately 30 days after each scheduled meeting. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://facadatabase.gov/committee/meetings.aspx?cid=281; click the “Meeting Details” and “Documents” links. Records generated from this meeting may also be inspected and reproduced at the Eastern Regional Office, as they become available, both before and after the meetings. Persons interested in the work of this advisory committee are advised to go to the Commission's Web site, www.usccr.gov, or to contact the Eastern Regional Office at the above phone numbers, email or street address.

Agenda

I. Welcome and Introductions

—Rollcall

Planning Meeting

—Discuss Mental Health Project and Other Topics for Civil Right Project

II. Other Business

Adjournment

DATES: The following Tuesdays: June 28, July 26, and August 23, 2016.

Time: Each meeting starts at 12:00 p.m. (EDT).

Public Call-In Information: Conference call-in number: 1-888-481-2844 and conference call ID: 6047709.

TDD: Dial Federal Relay Service at 1-800-977-8339 and give the operator the above toll-free conference call-in number and conference call ID.

FOR FURTHER INFORMATION CONTACT: Ivy L. Davis, at ero@usccr.gov or by phone at 202-376-7533.

Dated: June 10, 2016.
David Mussatt,
Chief, Regional Programs Unit.

[FR Doc. 2016-14128 Filed 6-14-16; 8:45 am]

BILLING CODE 6335-01-P